DEPARTMENT OF HEALTH AND HUMAN SERVICES

Administration for Children and Families

Submission for OMB Review; Comment Request

Title: Formative Data Collections for ACF Research and Program Support.

OMB No.: 0970-0356.

Description: The Office of Planning, Research, and Evaluation (OPRE), in the Administration for Children and Families (ACF) at the U.S. Department of Health and Human Services (HHS) intends to request approval from the Office of Management and Budget (OMB) to renew a generic clearance to conduct a variety of formative data collections with more than nine respondents. The data collections will inform future research and program support but will not be highly systematic nor intended to be statistically representative.

ACF programs promote the economic and social well-being of families, children, individuals and communities. OPRE studies ACF programs, and the populations they serve, through rigorous research and evaluation projects. These include evaluations of existing programs, evaluations of innovative approaches to helping low income children and families, research syntheses and descriptive and exploratory studies. OPRE's research serves to provide further understanding of current programs and service populations, explore options for program improvement, and assess alternative policy and program designs. OPRE anticipates undertaking a variety of new research projects related to welfare, employment and self-sufficiency, Head Start, child care, healthy marriage and responsible fatherhood, family and youth services, home visiting, child welfare, and other areas of interest to ACF. Many ACF program offices find a need to learn more about funded program services to inform internal decision-making and to provide adequate support. Some program offices conduct their own research and evaluation projects.

Under this generic clearance, ACF would engage in a variety of formative data collections with researchers, practitioners, TA providers, service providers and program participants throughout the field to fulfill the following goals: (1) Inform the development of ACF research, (2) maintain a research agenda that is rigorous and relevant, (3) ensure that research products are as current and responsive to audience needs as possible and (4) inform the provision of technical assistance. ACF envisions using a variety of techniques including semi-structured discussions, focus groups, and telephone or in-person interviews, in order to reach these goals.

Following standard OMB requirements, OPRE will submit a change request for each individual data collection activity under this generic clearance. Each request will include the individual instrument(s), a justification specific to the individual information collection, and any supplementary documents. OMB should review requests within 10 days of submission.

Under this generic IC information will not be collected with the primary purpose of publication, but findings are meant to inform ACF activities and may be incorporated into documents or presentations that are made public. The following are some examples of ways in which we may disseminate information resulting from these data collections: Research design documents or reports; research or technical assistance plans; background materials for technical workgroups; concept maps, process maps, or conceptual frameworks; contextualization of research findings from a follow-up data collection that has full PRA approval; informational reports to stakeholders such as funders, grantees, local implementing agencies, and/or TA providers. In presenting findings, we will describe the study methods and limitations with regard to generalizability and as a basis for policy.

Respondents: Key stakeholder groups involved in ACF projects and programs, state or local government officials, service providers, participants in ACF programs or similar comparison groups; experts in fields pertaining to ACF research and programs, or others involved in conducting ACF research or evaluation projects.

Annual Burden Estimates
Instrument type | Estimated total number of respondents | Estimated number of responses per respondent | Average burden hours per response | Estimated total burden hours
Semi-Structured Discussions, Focus Groups | 2,000 | 1 | 2 | 4,000
Interviews | 1,000 | 1 | 1 | 1,000
Questionnaires/Surveys | 750 | 1 | .5 | 375

Total Estimated Burden Hours: 5,375.

Additional Information: Copies of the proposed collection may be obtained by writing to the Administration for Children and Families, Office of Planning, Research and Evaluation, 330 C Street SW, Washington, DC 20201, Attn: OPRE Reports Clearance Officer. All requests should be identified by the title of the information collection. Email address: OPREinfocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Mary Jones,
ACF/OPRE Certifying Officer.

[FR Doc. 2018-06446 Filed 3-29-18; 8:45 am]

BILLING CODE 4184-79-P